DEPARTMENT OF THE INTERIOR

National Park Service

Notice of Inventory Completion: Museum of Natural History and Planetarium, Roger Williams Park, Providence, RI

AGENCY: National Park Service, Interior.

ACTION: Notice.

Notice is here given in accordance with the Native American Graves Protection and Repatriation Act (NAGPRA), 25 U.S.C. 3003, of the completion of an inventory of human remains in the Museum of Natural History and Planetarium, Roger Williams Park, Providence, RI. The human remains were removed from Puget Sound, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Museum of Natural History and Planetarium, Roger Williams Park professional staff in consultation with representatives of the Muckleshoot Indian Tribe of the Muckleshoot Reservation, Washington; Nisqually Indian Tribe of the Nisqually Reservation, Washington; Port Gamble Indian Tribe of the Port Gamble Reservation, Washington; Puyallup Tribe of the Puyallup Reservation, Washington; Sauk-Suiattle Indian Tribe of Washington; Skokomish Indian Tribe of the Skokomish Reservation, Washington; Squaxin Island Tribe of the Squaxin Island Reservation, Washington; Stillaguamish Tribe of Washington; Suquamish Indian Tribe of the Port Madison Reservation, Washington; Swinomish Indians of the Swinomish Reservation, Washington; Tulalip Tribes of the Tulalip Reservation, Washington; and Upper Skagit Indian Tribe of Washington. A claim for the human remains described in this notice has been received by the Museum of Natural History and Planetarium from the Puyallup Tribe of the Puyallup Reservation, Washington. In July 2008, a letter was sent notifying the above-mentioned tribes of the claim by the Puyallup Tribe of the Puyallup Reservation, Washington, and statements of support or non-support were also solicited.

In 1913 or earlier, human remains representing a minimum of one individual were removed from the Puget Sound region, WA. No known individual was identified. No associated funerary objects are present.

A letter dated December 30, 1913, from the museum's curator acknowledges receipt of the human remains from the “Puget Sound region” as a loan from Sydney R. Turner of East Providence, RI (Accn.# RIR035; Cat. # E 4166). The letter also acknowledges receipt of “beads and other small articles found in the grave with it.” However, these objects were not located in the museum collections during the inventory. Therefore, no associated funerary objects are currently present with these human remains. There is no information regarding how the human remains (and the articles that once accompanied them) came into Mr. Turner's possession.

In the 1913 letter the curator remarks to Mr. Turner, “It is understood that you have loaned these specimens to the museum and we shall keep them safely until you may order their removal.” This statement must stand as the sole justification for why the Puget Sound remains were retained in the collection. It would appear that Mr. Turner failed to recall them. In 2008, museum staff reviewed 1913 city directories for East Providence, RI. It was learned that Mr. Sydney R. Turner owned and operated a grocery store with his brother Frederick until 1915-16. After that time, he initiated a career as a traveling salesman until his death in 1932, which may explain his failure to retrieve the remains. The museum tried to contact any possible heirs of Mr. Turner, but was unsuccessful.

No specific information is available about the collection of the human remains. The human remains were found to be consistent with Native American morphology by a physical anthropologist (1983 Self Study funded by the National Endowment for the Humanities). Due to the generalized “Puget Sound region” provenience, the human remains were originally reported by the Museum of Natural History as being culturally unidentifiable under NAGPRA, although the 1983 study suggested a possible Nootka (Nuu-chah-nulth) affiliation for the human remains. During consultation with the Puyallup Tribe, the museum was notified that tribes inhabiting the Puget Sound area are culturally identifiable as Salish and not Nootka, as the Nootka are further north. The human remains show skull flattening in the manner consistent with the cultural history of Puyallup and other Salish tribes. Therefore, officials of the Museum of Natural History hereby determine the human remains to be those of a Salish Indian. Descendants of the Salish of the Puget Sound region are members of the Muckleshoot Indian Tribe of the Muckleshoot Reservation, Washington; Nisqually Indian Tribe of the Nisqually Reservation, Washington; Port Gamble Indian Tribe of the Port Gamble Reservation, Washington; Puyallup Tribe of the Puyallup Reservation, Washington; Sauk-Suiattle Indian Tribe of Washington; Skokomish Indian Tribe of the Skokomish Reservation, Washington; Squaxin Island Tribe of the Squaxin Island Reservation, Washington; Stillaguamish Tribe of Washington; Suquamish Indian Tribe of the Port Madison Reservation, Washington; Swinomish Indians of the Swinomish Reservation, Washington; Tulalip Tribes of the Tulalip Reservation, Washington; and Upper Skagit Indian Tribe of Washington.

In consultation with the Puyallup Tribe of the Puyallup Reservation, Washington, the museum has learned that there were many Puyallup villages along Puget Sound prior to treaty times. Additionally, the territory of the Puyallup Tribe of the Puyallup Reservation, Washington (within Pierce County) extends to the Islands and waterways of Puget Sound, up to present day Steilacoom, out to present day Gig Harbor, embracing the cities of Tacoma, Fife, Milton, Puyallup, Edgewood, Sumner, and up to the top of Mount Rainier (and King County.) The Puyallup also occupied seasonal encampments in the Puget Sound area.

Based on lack of information about the removal from Puget Sound, Mr. Turner's and his heirs' failure to remove the human remains from the museum, and the fact that the Museum of Natural History has had stewardship of them since 1913, the museum considers the human remains abandoned and has decided to proceed as the responsible entity under NAGPRA.

Officials of the Museum of Natural History and Planetarium, Roger Williams Park have determined that, pursuant to 25 U.S.C. 3001 (9-10), the human remains described above represent the physical remains of one individual of Native American ancestry. Officials of the Museum of Natural History and Planetarium, Roger Williams Park also have determined that, pursuant to 25 U.S.C. 3001 (2), there is a relationship of shared group identity that can be reasonably traced between the Native American human remains and the Muckleshoot Indian Tribe of the Muckleshoot Reservation, Washington; Nisqually Indian Tribe of the Nisqually Reservation, Washington; Port Gamble Indian Tribe of the Port Gamble Reservation, Washington; Puyallup Tribe of the Puyallup Reservation, Washington; Sauk-Suiattle Indian Tribe of Washington; Skokomish Indian Tribe of the Skokomish Reservation, Washington; Squaxin Island Tribe of the Squaxin Island Reservation, Washington; Stillaguamish Tribe of Washington; Suquamish Indian Tribe of the Port Madison Reservation, Washington; Swinomish Indians of the Swinomish Reservation, Washington; Tulalip Tribes of the Tulalip Reservation, Washington; and Upper Skagit Indian Tribe of Washington.

Representatives of any other Indian tribe that believes itself to be culturally affiliated with the human remains should contact Marilyn Massaro, Curator of Collections, Museum of Natural History and Planetarium, Roger Williams Park, Providence, RI 02907, telephone (401)785-9457, ext. 248, before November 12, 2009. Repatriation of the human remains to the Muckleshoot Indian Tribe of the Muckleshoot Reservation, Washington; Nisqually Indian Tribe of the Nisqually Reservation, Washington; Port Gamble Indian Tribe of the Port Gamble Reservation, Washington; Puyallup Tribe of the Puyallup Reservation, Washington; Sauk-Suiattle Indian Tribe of Washington; Skokomish Indian Tribe of the Skokomish Reservation, Washington; Squaxin Island Tribe of the Squaxin Island Reservation, Washington; Stillaguamish Tribe of Washington; Suquamish Indian Tribe of the Port Madison Reservation, Washington; Swinomish Indians of the Swinomish Reservation, Washington; Tulalip Tribes of the Tulalip Reservation, Washington; and Upper Skagit Indian Tribe of Washington may proceed after that date if no additional claimants come forward.

The Museum of Natural History and Planetarium, Roger Williams Park is responsible for notifying the Muckleshoot Indian Tribe of the Muckleshoot Reservation, Washington; Nisqually Indian Tribe of the Nisqually Reservation, Washington; Port Gamble Indian Tribe of the Port Gamble Reservation, Washington; Puyallup Tribe of the Puyallup Reservation, Washington; Sauk-Suiattle Indian Tribe of Washington; Skokomish Indian Tribe of the Skokomish Reservation, Washington; Squaxin Island Tribe of the Squaxin Island Reservation, Washington; Stillaguamish Tribe of Washington; Suquamish Indian Tribe of the Port Madison Reservation, Washington; Swinomish Indians of the Swinomish Reservation, Washington; Tulalip Tribes of the Tulalip Reservation, Washington; and Upper Skagit Indian Tribe of Washington that this notice has been published.

Dated: September 21, 2009
Sherry Hutt,
Manager, National NAGPRA Program.

[FR Doc. E9-24558 Filed 10-9-09; 8:45 am]

BILLING CODE 4312-50-S